DEPARTMENT OF ENERGY

Federal Energy Regulatory Commission

Combined Notice of Filings

Take notice that the Commission has received the following Natural Gas Pipeline Rate and Refund Report filings:

Filings Instituting Proceedings

Docket Numbers: RP14-33-000.

Applicants: Texas Eastern Transmission, LP.

Description: Cleanup of NegRate Agreements—Oct2013 to be effective 11/10/2013.

Filed Date: 10/10/13.

Accession Number: 20131010-5047.

Comments Due: 5 p.m. ET 10/22/13.

Docket Numbers: RP14-34-000.

Applicants: Algonquin Gas Transmission, LLC.

Description: Algonquin Gas Transmission, LLC submits tariff filing per 154.204: KeySpan Nov2013 release to Brooklyn Union to be effective 11/1/2013.

Filed Date: 10/10/13.

Accession Number: 20131010-5123.

Comments Due: 5 p.m. ET 10/22/13.

Docket Numbers: RP14-35-000.

Applicants: Kern River Gas Transmission Company.

Description: Kern River Gas Transmission Company submits tariff filing per 154.204: 2013 Miscellaneous to be effective 11/11/2013.

Filed Date: 10/11/13.

Accession Number: 20131011-5000.

Comments Due: 5 p.m. ET 10/23/13.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

Filings in Existing Proceedings

Docket Numbers: RP13-1105-004.

Applicants: Energy West Development, Inc.

Description: Energy West Development, Inc. submits tariff filing per 154.203: Compliance Filing to 153 to be effective 12/1/2012.

Filed Date: 10/10/13.

Accession Number: 20131010-5083.

Comments Due: 5 p.m. ET 10/22/13.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 15, 2013.
Nathaniel J. Davis, Sr.,
Deputy Secretary.

[FR Doc. 2013-24614 Filed 10-21-13; 8:45 am]

BILLING CODE 6717-01-P